DEPARTMENT OF THE INTERIOR

Bureau of Land Management

[20XLLAZ941200.L1440000.ET0000; AZA30749]

Notice of Application for Proposed Withdrawal Extension and Notification of Public Meeting, San Francisco Peaks/Mount Elden Recreation Area, Arizona

AGENCY: Bureau of Land Management, Interior.

ACTION: Notice.

SUMMARY: The Bureau of Land Management (BLM) is providing notice of an application from the United States Forest Service (USFS) requesting that Public Land Order (PLO) 7467 be extended for an additional 20-year term. PLO 7467 withdrew 74,689 acres of National Forest System lands in the Coconino National Forest, San Francisco Peaks/Mount Elden Recreation Area, Arizona. The PLO withdrew these lands from settlement, sale, location, or entry under the general land laws and the United States mining laws, but not from leasing under the mineral leasing laws. This notice also gives the public the opportunity to comment on the withdrawal extension application, and announces the date, time, and venue for a virtual public meeting.

DATES: Comments must be received by September 14, 2020. The USFS will hold a virtual public meeting in connection with the proposed withdrawal extension on August 17, 2020, at 5:00 p.m. The USFS will publish the date and instructions about how to access the online public meeting in the Arizona Daily Sun (Flagstaff) and the Arizona Republic (Phoenix Metropolitan area) newspapers a minimum of 15 days prior to the meetings.

ADDRESSES: All comments should be sent to the BLM Arizona State Office, One North Central, Suite 800, Phoenix, Arizona 85004; faxed to 602-417-9452; or sent by email to BLM_AZ_Withdrawal_Comments@blm.gov. The BLM will not consider comments received via telephone calls.

FOR FURTHER INFORMATION CONTACT: Sara Ferreira, Land Law Examiner, BLM, at 602-417-9598; by email at sferreir@blm.gov; or you may contact the BLM office at the address noted above. Persons who use a telecommunications device for the deaf (TDD) may call the Federal Relay Service (FRS) at 1-800-877-8339 to contact the above individual. The FRS is available 24 hours a day, 7 days a week, to leave a message or question with the above individual. You will receive a reply during normal business hours.

SUPPLEMENTARY INFORMATION: The USFS has filed an application to extend for an additional 20-year term a withdrawal established by PLO 7467 (65 FR 61180), which will expire on October 15, 2020. The legal descriptions written in PLO 7467 are revised to reflect the Cadastral Survey's Specifications for Descriptions of Land:

Gila and Salt River Meridian, Arizona

T. 21 N., R. 7 E.,

sec. 1;

sec. 2, excepting H.E.S. No. 86.

T. 21 N., R. 8 E.,

sec. 6, excepting SE¼NE¼SE¼NE¼, E½SE¼SE¼NE¼, E½SE¼SW¼, S½SW¼SE¼SW¼, NE¼SE¼SE¼NE¼SE¼, E½SW¼SE¼SE¼NE¼SE¼, SE¼SE¼SE¼NE¼SE¼, S½SE¼.

T. 22 N., R. 6 E.,

secs. 1 thru 3;

sec. 4, excepting SE¼ NW¼;

secs. 9 thru 11;

sec. 12, excepting NW¼;

sec. 13, N½;

secs. 14 and 15;

sec. 16, E½.

T. 22 N., R. 7 E.,

secs. 1 thru 18;

secs. 20 thru 26;

sec. 27, excepting NE¼;

secs. 28 and 29;

sec. 32, N½;

sec. 33, N½, N½SW¼, N½SE¼, SW¼SE¼, W½NW¼NW¼SE¼SE¼, W½SW¼NW¼SE¼SE¼, W½NW¼SW¼SE¼SE¼, W½SW¼SW¼SE¼SE¼;

sec. 34, N½, N½SW¼, E½SW¼SW¼, NW¼SE¼;

secs. 35 and 36.

T. 22 N., R. 8 E.,

secs. 5 thru 7;

sec. 8, excepting E½SE¼;

sec. 17, excepting N½NE¼NE¼NE¼, N½NW¼NE¼NE¼;

secs. 18 and 19;

sec. 20, excepting S½SE¼NE¼NE¼, SE¼SW¼NE¼NE¼, S½SE¼NE¼;

sec. 29, excepting E½SW¼SE¼SE¼, SE¼SE¼SE¼;

secs. 30 and 31;

sec. 32, N½, N½SW¼, SW¼SW¼, N½NE¼NE¼SE¼SW¼, N½NW¼NE¼SE¼SW¼, W½SE¼SW¼, N½SE¼, E½SW¼SE¼, N½NE¼NW¼SW¼SE¼, N½NW¼NW¼SW¼SE¼, SE¼SE¼.

T. 23 N., R. 6 E.,

sec. 8, lots 1, 2, 7, and 8;

sec. 9;

sec. 10, excepting W½NW¼NE¼NW¼, SE¼NW¼NE¼NW¼, E½NW¼NW¼, NE¼NW¼NW¼NW¼;

sec. 11, excepting W½SE¼SE¼NE¼SW¼, W½NE¼NE¼SE¼SW¼, W½SE¼NE¼SE¼SW¼, W½NE¼SE¼SE¼SW¼, W½SE¼SE¼SW¼, W½SE¼SE¼SE¼SW¼;

sec. 12;

sec. 13, excepting SW¼NE¼NE¼, NE¼SE¼NE¼NE¼, W½SE¼NE¼NE¼, SE¼NW¼NE¼, N½NE¼SW¼NE¼, N½NW¼SE¼NE¼;

sec. 14, excepting N½NE¼NE¼, N½NE¼SW¼NE¼NE¼, N½NW¼SW¼NE¼NE¼, N½NE¼SE¼NE¼NE¼, N½NW¼SE¼NE¼NE¼, N½NW¼NE¼, N½NE¼SW¼NW¼NE¼, N½NW¼SW¼NW¼NE¼, N½NE¼SE¼NW¼NE¼, N½NW¼SE¼NW¼NE¼, N½NE¼NW¼, N½NE¼SW¼NE¼NW¼, N½NW¼SW¼NE¼NW¼, N½NE¼SE¼NE¼NW¼, N½NW¼SE¼NE¼NW¼, N½NW¼NW¼, N½NE¼SW¼NW¼NW¼, N½NW¼SW¼NW¼NW¼, N½NE¼SE¼NW¼NW¼, N½NW¼SE¼NW¼ NW¼, SW¼SW¼;

sec. 15, excepting SE¼SE¼;

secs. 16 and 17;

secs. 20 and 21;

sec. 22, excepting NE¼NE¼, NW¼, S½SW¼SW¼, SW¼NE¼SE¼SW¼, S½NW¼SE¼SW¼, SW¼SE¼SW¼, W½SE¼SE¼SW¼;

sec. 23, excepting NW¼NW¼, SW¼NE¼SW¼SW¼, S½SW¼SW¼SW¼, SE¼SW¼SW¼, S½SE¼SW¼, SW¼SW¼SE¼;

secs. 24 and 25;

sec. 26, excepting SE¼SW¼NE¼NE¼, N½NE¼NW¼NE¼, N½NW¼NW¼NE¼, NE¼NW¼SE¼NE¼, NW¼, N½SW¼, subject to a reservation by Summit Properties, Inc., described in a Warranty Deed recorded in Coconino County, Arizona in Docket 663, Pages 481 thru 484;

sec. 27, lot 1, N½NE¼NE¼, SW¼NE¼NE¼, N½NE¼SE¼NE¼NE¼, W½SE¼NE¼NE¼, NW¼NE¼, E½SW¼NE¼, E½NW¼SW¼NE¼, E½SW¼SW¼NE¼, S½NE¼NE¼SE¼NE¼, W½NE¼SE¼NE¼, SE¼NE¼SE¼NE¼, W½SE¼NE¼, SE¼SE¼NE¼, S½SW¼NW¼NW¼, SW¼SE¼NW¼NW¼, W½NE¼SW¼NW¼, W½SW¼NW¼, SE¼SW¼NW¼, SW¼SE¼NW¼, N½NE¼SW¼, N½SW¼NE¼SW¼, N½SE¼NE¼SW¼, W½NW¼SW¼, W½SW¼SW¼, SE¼SW¼SW¼, S½SE¼SW¼, N½NE¼SE¼, N½SW¼NE¼SE¼, SE¼NE¼SE¼, N½NW¼SE¼, N½SW¼NW¼SE¼, N½SE¼NW¼SE¼, SW¼SW¼SE¼, W½SE¼SW¼SE¼, E½SE¼SE¼;

secs. 28 and 29;

secs. 32 and 33;

sec. 34, SW¼NW¼NE¼, NW¼, SE¼;

sec. 35, lots 1 thru 5, N½NE¼, E½NW¼SE¼NE¼, E½SW¼SE¼NE¼, E½SE¼NE¼, N½NE¼NW¼, W½SW¼NE¼NW¼, SE¼NE¼NW¼, N½NW¼NW¼, SW¼NW¼NW¼, W½SW¼NW¼, N½SW¼, N½SW¼SW¼, SE¼;

sec. 36.

T. 23 N., R. 7 E.,

secs. 7 thru 12;

sec. 13, excepting S½SE¼SW¼, M.S. No. 4652;

secs. 14 thru 17;

sec. 18, lots 3 thru 5, E½, N½NE¼NW¼, SE¼NE¼NW¼, N½NE¼NW¼NW¼, E½SE¼NW¼, S½SW¼SE¼NW¼, E½SW¼;

secs. 19 thru 23;

sec. 24, lots 1 thru 4, N½NW¼NE¼, E½SW¼NW¼NE¼, E½NW¼SW¼NW¼NE¼, E½NW¼NW¼SW¼NW¼NE¼, E½SW¼NW¼SW¼NW¼NE¼, E½SW¼SW¼NW¼NE¼, E½NW¼SW¼SW¼NW¼NE¼, E½SW¼SW¼SW¼NW¼NE¼, SE¼NW¼NE¼, NE¼SW¼NE¼, E½NW¼SW¼NE¼, E½NW¼NW¼SW¼NE¼, E½NW¼NW¼NW¼SW¼NE¼, E½SW¼NW¼NW¼SW¼NE¼, E½SW¼NW¼SW¼NE¼, E½NW¼SW¼NW¼SW¼NE¼, E½SW¼SW¼NW¼SW¼NE¼, S½SW¼NE¼, W½NW¼NW¼SW¼NE¼NW¼, W½SW¼NW¼SW¼NE¼NW¼, W½NW¼SW¼SW¼NE¼NW¼, W½SW¼SW¼SW¼NE¼NW¼, W½NW¼, W½NW¼NW¼NW¼SE¼NW¼, W½SW¼NW¼NW¼SE¼NW¼, W½NW¼SW¼NW¼SE¼NW¼, W½SW¼SW¼NW¼SE¼NW¼, S½SE¼NW¼, SW¼, W½SE¼, excepting M.S. No. 4652;

secs. 25 thru 34;

sec. 35, excepting a right-of-way described in two Quit-claim Deeds recorded in Coconino County, Arizona in Book 34 of Deeds, Pages 598 and 604;

sec. 36.

T. 23 N., R. 8 E.,

sec. 7;

sec. 17, SW¼;

sec. 18, excepting NW¼NE¼;

sec. 19;

sec. 20, W½;

sec. 29, N½, SW¼, E½NE¼SE¼, E½NW¼NE¼SE¼, W½NE¼NW¼SE¼, W½NW¼SE¼, W½SE¼NW¼SE¼, W½SW¼SE¼, W½NE¼SW¼SE¼, N½NE¼SE¼SE¼;

secs. 30 and 31;

sec. 32, W½NW¼NE¼, W½SE¼NW¼NE¼, S½NE¼, W½, SE¼.

The areas described aggregate 74,689 acres.

PLO 7467 withdrew these lands from location and entry under the United States mining laws, but not from leasing under the mineral leasing laws, for a period of 20 years. The extension will continue the withdrawal established by PLO 7467 to protect the cultural significance, capital investments and dispersed recreation in the USFS's San Francisco Peaks/Mount Elden Recreation Area.

The withdrawal extension would continue the purpose of the withdrawal established by PLO 7467 to protect the capital investments and high-quality recreation values in the USFS's San Francisco Peaks/Mount Elden Recreation area.

The use of a right-of-way, interagency agreement, or cooperative agreement would not provide adequate protection for the capital improvement investments that the USFS has made to the San Francisco Peaks/Mount Elden Recreation Area.

No additional water rights would be needed to fulfill the purpose of the requested withdrawal extension. There are no suitable alternative sites since these lands contain the developed San Francisco Peaks/Mount Elden Recreation Area.

Before including your address, phone number, email address, or other personal identifying information in your comment, you should be aware that your entire comment, including your personal identifying information, may be made publicly available at any time. While you can ask us in your comment to withhold your personal identifying information from public review, we cannot guarantee that we will be able to do so.

Notice is hereby given that a virtual (online) public meeting in connection with the application for withdrawal extension will be held on August 17, 2020, at 5:00 p.m. The USFS will publish a notice of the time and online venue in a local newspaper a minimum of 15 days before the scheduled date of the meeting.

(Authority: 43 CFR 2300)

Raymond Suazo,
State Director.

[FR Doc. 2020-12914 Filed 6-15-20; 8:45 am]

BILLING CODE 3411-15-P